DEPARTMENT OF COMMERCE

National Oceanic and Atmospheric Administration

RIN 0648-XC426

Endangered and Threatened Species; Take of Anadromous Fish

AGENCY: National Marine Fisheries Service (NMFS), National Oceanic and Atmospheric Administration (NOAA), Commerce.

ACTION: Issuance of five scientific research permits.

SUMMARY: Notice is hereby given that NMFS has issued Permit 14808 to the California Department of Fish and Game (CDFG), Permit 15573 to the Glenn-Colusa Irrigation District (GCID), Permit 16543 to the California Department of Water Resources (CDWR), Permit 13791 to the United States Fish and Wildlife Service (USFWS), and Permit 17077 to Dr. Peter Moyle with the University of California, Davis (UCD).

ADDRESSES: The approved application for each permit is available on the Applications and Permits for Protected Species (APPS), https://apps.nmfs.noaa.gov Web site by searching the permit number within the Search Database page. The applications, issued permits and supporting documents are also available upon written request or by appointment: Protected Resources Division, NMFS, 650 Capitol Mall, Room 5-100, Sacramento, CA 95814 (phone: (916) 930-3600, fax: (916) 930-3629).

FOR FURTHER INFORMATION CONTACT: Amanda Cranford at 916-930-3706, or email: Amanda.Cranford@noaa.gov.

SUPPLEMENTARY INFORMATION:

Authority

The issuance of permits and permit modifications, as required by the Endangered Species Act of 1973 (16 U.S.C. 1531-1543) (ESA), is based on a finding that such permits/modifications: (1) Are applied for in good faith; (2) would not operate to the disadvantage of the listed species which are the subject of the permits; and (3) are consistent with the purposes and policies set forth in section 2 of the ESA. Authority to take listed species is subject to conditions set forth in the permits. Permits and modifications are issued in accordance with and are subject to the ESA and NMFS regulations (50 CFR parts 222-226) governing listed fish and wildlife permits.

Species Covered in This Notice

This notice is relevant to federally endangered Sacramento River (SR) winter-run Chinook salmon (Oncorhyncus tshawytscha), threatened Central Valley (CV) spring-run Chinook salmon (O. tshawytscha), threatened California Central Valley (CCV) steelhead (O. mykiss), and threatened southern distinct population segment (SDPS) of North American green sturgeon (Acipenser medirostris), henceforth referred to as ESA-listed salmonids and SDPS green sturgeon.

Permits Issued

Permit 14808

A notice of the receipt of an application for a scientific research permit (14808) was published in the Federal Register on April 24, 2012 (77 FR 24469). Permit 14808 was issued to CDFG on September 26, 2012 and expires on December 31, 2017.

Permit 14808 is for research to be conducted at two different sites within the upper Sacramento River, California. The main purpose of the research conducted by CDFG is to monitor the outmigration of juvenile salmonids on a real-time basis and provide daily summaries of timing, abundance and size distribution of salmonids in the Sacramento River at two different sites before they enter the Delta. Data can then be forwarded to various water agencies for better management decisions and to reduce frequency of ESA-listed fish entrainment. Permit 14808 authorizes capture (by rotary screw trap), anesthetizing, handling (fork length measurements and wet weights), and release of smolt and juvenile SR winter-run and CV spring-run Chinook salmon, adult and juvenile CCV steelhead and juvenile SDPS green sturgeon downstream of the trapping location.

Permit 14808 authorizes non-lethal take and low levels (not to exceed two percent) of unintentional lethal take. Permit 14808 also authorizes intentional, directed lethal take of smolt and juvenile adipose fin-clipped, hatchery produced, SR winter-run Chinook salmon for coded wire tag retrieval and processing.

Permit 15573

A notice of the receipt of an application for a scientific research and enhancement permit renewal (15573) was published in the Federal Register on December 15, 2010 (75 FR 78226). Permit 15573 was issued to GCID on October 5, 2012 and expires on December 31, 2017.

Permit 15573 is for research to be conducted in an oxbow of the Sacramento River, immediately downstream of the Hamilton City Pumping Plant, Glenn County, California. The primary objectives to which ESA-listed salmonids and SDPS green sturgeon may be taken are to collect emigration data as a reference and research tool to provide short-term monitoring specifically related to restoration actions and long-term monitoring to detect annular and cyclic population changes. Take activities associated with research on smolt and juvenile ESA-listed salmonids and juvenile SDPS green sturgeon include the following: capture (by rotary screw trap), anesthetizing, and release of fish downstream of the trapping location.

Permit 15573 authorizes non-lethal and low levels (not to exceed two percent) of unintentional lethal take of smolt and juvenile ESA-listed salmonids and juvenile SDPS green sturgeon. Permit 15573 does not authorize any intentional lethal take of ESA-listed salmonids and SDPS green sturgeon.

Permit 16543

A notice of the receipt of an application for a scientific research and enhancement permit (16543) was published in the Federal Register on July 18, 2012 (77 FR 42278). Permit 16543 was issued to CDWR on October 22, 2012 and expires on December 31, 2014.

Permit 16543 is for research to be conducted in the Sacramento-San Joaquin Delta, California. The primary objectives to which ESA-listed salmonids and SDPS green sturgeon may be taken are to provide information on spatial and environmental patterns of predation; critical information for guiding future restoration projects on conditions likely to support or discourage higher predation rates on ESA-listed and native fishes. Take activities associated with research on adult ESA-listed salmonids and both juvenile and adult SDPS green sturgeon include the following: capture (by trammel net), handling (species identification and enumeration), and release of fish downstream of the capture location.

Permit 16543 authorizes CDWR non-lethal take of adult ESA-listed salmonids and both juvenile and adult SDPS green sturgeon. Permit 16543 does not authorize any unintentional or intentional lethal take of ESA-listed salmonids and SDPS green sturgeon.

Permit 13791

A notice of the receipt of an application for a scientific research and enhancement permit (13791) was published in the Federal Register on April 24, 2012 (77 FR 24469). Permit 13791 was issued to USFWS on October 23, 2012 and expires on December 31, 2015.

Permit 13791 is for research to be conducted in the Sacramento River basin and the Sacramento-San Joaquin Delta, California. The primary objectives to which ESA-listed salmonids and SDPS green sturgeon may be taken by the USFWS' Delta Juvenile Fish Monitoring Program and the Breach III Project are to provide basic biological and population information on fishes of management concern. Additionally, data collected can be used by natural resource managers to evaluate the effectiveness of water operations, aquatic habitat restoration, and fish management practices within the San Francisco Estuary (SFE) and its watershed. Take activities associated with research on juvenile ESA-listed salmonids and SDPS green sturgeon include the following: capture (by fyke nets, multi-mesh gill nets, larval fish trawls, midwater trawls, Kodiak trawls, electrofishing and beach seines), handling (species and race identification and enumeration, fork-length measurements, tissue/scale samples if applicable), and release of fish downstream of the capture location.

Permit 13791 authorizes non-lethal take and low levels (not to exceed 12.5 percent) of unintentional lethal take. Permit 13791 also authorizes intentional, directed lethal take of smolt and juvenile adipose fin-clipped, hatchery produced, SR winter-run and CV spring-run Chinook salmon for coded wire tag retrieval and processing.

Permit 17077

A notice of the receipt of an application for a scientific research and enhancement permit (17077) was published in the Federal Register on August 24, 2012 (77 FR 51520). Permit 17077 was issued to Dr. Peter Moyle on November 26, 2012 and expires on December 31, 2015.

Permit 17077 is for research to be conducted in three distinct regions across the SFE: the Cache-Lindsay Slough complex, the Sherman Lake complex, and Suisun Marsh. The primary objectives to which ESA-listed salmonids and SDPS green sturgeon may be taken by Dr. Moyle are to determine the extent that native fishes use intertidal and subtidal shallow water and marsh (SWM) habitats in the northern arc of the SFE and to understand how fishes commonly inhabiting Suisun Marsh use the Sacramento River corridor to access SWM habitats that are not currently surveyed in Sherman Lake, Cache Slough and Lindsey Slough. Further, Dr. Moyle will model fish abundance and assembly using biophysical habitat data (including slough geomorphology, hydrology, and water quality) to guide restoration projects that will successfully support native fishes and discourage aliens.

Permit 17077 authorizes non-lethal take and low levels (not to exceed 20 percent, equivalent to one fish) of unintentional lethal take of adult and juvenile ESA-listed salmonids and both adult and juvenile SDPS green sturgeon. Permit 17077 does not authorize any intentional lethal take of ESA-listed salmonids or SDPS green sturgeon.

Angela Somma,
Chief, Endangered Species Division, Office of Protected Resources, National Marine Fisheries Service.

[FR Doc. 2013-00139 Filed 1-7-13; 8:45 am]

BILLING CODE 3510-22-P